DEPARTMENT OF ENERGY

Federal Energy Regulatory Commission

[Docket No. RM01-5-000]

Electronic Tariff Filings; Notice of Inability To Add Service List Entries for eTariff Filings

Take notice that filers making eTariff currently are not able to add additional names to the service list through FERC Online. The account manager in Company Registration is added automatically. A solution for this problem is in progress. In the interim, if filers want to add additional names to the service list, they should file an Intervention through FERC Online.

Dated: January 3, 2025.
Debbie-Anne A. Reese,
Secretary.

[FR Doc. 2025-00352 Filed 1-8-25; 8:45 am]

BILLING CODE 6717-01-P